DEPARTMENT OF COMMERCE

Foreign-Trade Zones Board

[B-21-2014]

Notification of Proposed Production Activity, Mercury Marine, Subzone 41H, (Marine Engine and Stern Drive Components), Fond du Lac, Wisconsin

Mercury Marine, operator of Subzone 41H, submitted a notification of proposed production activity to the FTZ Board for its facilities located in Fond du Lac, Wisconsin. The notification conforming to the requirements of the regulations of the FTZ Board (15 CFR 400.22) was received on February 19, 2014.

Mercury Marine already has authority to produce marine inboard, outboard, and jet pump engines, stern drives, transom assemblies, and related components. The current request would add new finished products and foreign components to the scope of authority. Pursuant to 15 CFR 400.14(b), additional FTZ authority would be limited to the specific foreign-status components and specific finished products described in the submitted notification (as described below) and subsequently authorized by the FTZ Board.

Production under FTZ procedures could exempt Mercury Marine from customs duty payments on the foreign-status components used in export production. On its domestic sales, Mercury Marine would be able to choose the duty rates during customs entry procedures that apply to catalytic converters, bracket assemblies, hydraulic trim/steering cylinders, recoil starters, parts/subassemblies of hydro jet engines, fuel pumps, power steering pumps, turbochargers, air compressor assemblies, parts of pumps, heat exchanger assemblies, seawater filter assemblies, processors for global positioning systems, transom pumps, engine trim pumps, valve assemblies, throttle body assemblies, shaft assemblies, coupling assemblies, engine-transmission assemblies, propellers, electric motors, starter assemblies, ignition control module assemblies, ignition switch assemblies, control panel assemblies, wiring harnesses, position sensor assemblies, and engine calibration module assemblies (duty rate ranges from free to 7.5%) for the foreign status inputs noted below and in the existing scope of authority. Customs duties also could possibly be deferred or reduced on foreign status production equipment.

The components and materials sourced from abroad include: Sound proofing blankets; rubber hose assemblies; thrust boards; gaskets; heat wraps; fuel lines; timing chains; water tubes; fasteners (washers, pins, retaining rings, bolts, nuts); oil drain tube assemblies; aluminum washers/o-rings/bushings; primer bulbs-fuel; hydraulic pumps; turbochargers; oil coolers; seawater filters; processors for global positioning systems (GPS); transom pumps; parts of trim pumps; pressure-reduction/hydraulic valves; electric motors; GPS units; condensors; resistors; control panels; remote controllers; insulated wire; electrical connectors/fittings; and, voltage/rudder gauges (duty rate ranges from free to 5.7%).

Public comment is invited from interested parties. Submissions shall be addressed to the FTZ Board's Executive Secretary at the address below. The closing period for their receipt is April 23, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov or (202) 482-1378.

Dated: March 6, 2014.
Andrew McGilvray,
Executive Secretary.

[FR Doc. 2014-05665 Filed 3-13-14; 8:45 am]

BILLING CODE 3510-DS-P